FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 020097N.

Name: Direct Services Solutions, Inc.

Address: 2 Giralda Farms, Madison Ave., P.O. Box 880, Madison, NJ 07904-0880.

Date Revoked: August 21, 2009.

Reason: Surrendered license voluntarily.

License Number: 001307F.

Name: Elite Customs Brokers, Inc.

Address: 2016 Linden Blvd., Ste. 18, Elmont, NY 11003.

Date Revoked: September 13, 2009.

Reason: Failed to maintain a valid bond.

License Number: 021025F.

Name: Marietha International Forwarding, Inc.

Address: 3501 N. Causeway Blvd., Ste. 324, Metairie, LA 70002.

Date Revoked: September 16, 2009.

Reason: Failed to maintain a valid bond.

License Number: 002023F.

Name: Pike Shipping Co., Inc.

Address: 2325 N. Hullen, Ste. 105, Metairie, LA 70001.

Date Revoked: September 12, 2009.

Reason: Failed to maintain a valid bond.

License Number: 019791N.

Name: Ruky International Company.

Address: 149 Isabelle Street, Metuchen, NJ 08840.

Date Revoked: September 14, 2009.

Reason: Failed to maintain a valid bond.

License Number: 021690F.

Name: Scrap Freight, Inc.

Address: 801 S. Garfield Ave., Ste. 101, Alhambra, CA 91801.

Date Revoked: September 25, 2009.

Reason: Surrendered license voluntarily.

License Number: 018092F.

Name: Shipping Corporation International,

Address: Conley Terminal Massport Admin. Bldg., Ste. 210/215, So. Boston, MA 02127.

Date Revoked: September 12, 2009.

Reason: Failed to maintain a valid bond.

License Number: 020295NF.

Name: Yavid Corporation.

Address: 10451 NW. 28th Street, Ste. F-101, Miami, FL 33172.

Date Revoked: September 17, 2009.

Reason: Failed to maintain valid bonds.

Sandra L. Kusumoto,
Director, Bureau of Certification and Licensing.

[FR Doc. E9-24291 Filed 10-7-09; 8:45 am]

BILLING CODE P